DEFENSE NUCLEAR FACILITIES SAFETY BOARD

Sunshine Act Meetings

FEDERAL REGISTER CITATION OF PREVIOUS ANNOUNCEMENT: 80 FR 62524 (October 16, 2015).

PREVIOUSLY ANNOUNCED TIME AND DATE OF MEETING: 9 a.m.-12:15 p.m., November 10, 2015.

CHANGES IN THE MEETING: On page 62524, in the second column, change the DATES caption to read: “Time and Date of Meeting: 1 p.m.-4:15 p.m., November 23, 2015.” Additionally, in the second column, in the SUPPLEMENTARY INFORMATION caption, at the 11th line of the “Matters to be Considered” section, after the word “entitled,” remove the phrase “DNFSB Work Plans and Staffing Plan for Fiscal Year 2016” and add in its place the phrase “DNFSB Office of the Technical Director Fiscal Year 2016 Work Plan”.

CONTACT PERSON FOR MORE INFORMATION: Mark Welch, General Manager, Defense Nuclear Facilities Safety Board, 625 Indiana Avenue NW., Suite 700, Washington, DC 20004-2901, (800) 788-4016. This is a toll-free number.

Dated: November 2, 2015.
Joyce L. Connery,
Chairman.

[FR Doc. 2015-28288 Filed 11-3-15; 11:15 am]

BILLING CODE 3670-01-P